DEPARTMENT OF HEALTH AND HUMAN SERVICES

Centers for Disease Control and Prevention

[60Day-10-0735]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

CDC Web site and Communication Channels Usability Evaluation (OMB No. 0925-0735, Exp. 3/31/2010)—Revision—National Center for Health Marketing (NCHM), Centers for Disease Control and Prevention (CDC.)

Background and Brief Description

Executive Order 12862 directs Federal agencies that provide significant services directly to the public to survey customers to determine the kind and quality of services they need and their level of satisfaction with existing services. The Centers for Disease Control and Prevention (CDC) seeks approval to conduct usability surveys on CDC Web sites, social media, mobile-based or other electronic communication channels hosting CDC content on an ongoing basis.

It is important for CDC to ensure that health information, interventions, and programs at CDC are based on sound science, objectivity, and continuous customer input. The CDC Web sites, social media, mobile-based or other electronic communication channels hosting CDC content must be designed to be easy to use, easy to access, and effective providers of health information and resources to our target audiences.

CDC is requesting renewal of our existing 3-year generic clearance, with revisions, in order to carry out its mission. This revised proposal requests clearance for usability surveys on the Centers for Disease Control and Prevention (CDC) Web site and, in addition, social media, mobile-based or other electronic communication channels hosting CDC content. With the previous Usability Evaluation package, various groups around the agency were able to conduct useful surveys assessing the usability of a variety of CDC Web sites. These surveys covered important CDC programs and topics, such as Seasonal Flu, Tuberculosis, HIV, STDs, and Chronic Diseases. The CDC.gov Homepage and other CDC Web sites were redesigned based on usability surveys conducted within this package and the resulting designs improved performance for Web site users and won numerous awards, both within and outside of, the Federal government space. The next step is to continue usability surveys on more Web sites, staying abreast of changes in target audience needs and online behavior as well as survey users of CDC social media, mobile-based or other electronic communication channels hosting CDC content that currently exist or will emerge during the life of this package. CDC is currently using mobile Web sites, text messaging, online quizzes, widgets, podcasts, eCards, online video, motion graphics, blogs, syndicated content, and other communication channels and will continue to explore other channels which provide CDC content to target audiences when, where, and how they want and need it. As new channels emerge, CDC will explore using them to deliver its content.

Usability surveys determine how well CDC's Web site, social media, mobile-based or other electronic communication channels hosting CDC content are performing. Observation and data collection on how users interact with the Web site or other electronic communication channels hosting CDC content are critical in ensuring that users can find information, that the Web site or other electronic communication channels are easy to use and designed to meet the needs of specific audiences. This package requests clearance for two types of surveys: Remote or in person. Remote surveys will collect data about how participants interact with CDC's Web site, social media, mobile-based or other electronic communication channels hosting CDC content. Users will take the survey at their home or work computers. In person surveys will have participants take the survey in a central location where their data can be captured electronically, as with the remote survey, but also the participants can be directly observed. The direct observation of in person surveys allows for enhanced collection of information such as observation of facial expressions and listening to verbal feedback. This package provides a list of generic tasks and questions for the surveys that can be used to develop a survey for a specific CDC Web site, social media, mobile-based or other electronic communication channel hosting CDC content. Screening questions (comprised of demographic, introductory, or core questions) are also included in the package, and a subset of these screening questions will be used to create the proper sample for each usability survey. Participants in a usability survey are reflective of the target audience for a CDC Web site, social media, mobile-based or other electronic communication channel hosting CDC content.

Generic clearance is needed to ensure that CDC can continuously improve its Web sites, social media, mobile-based or other electronic communication channels hosting CDC content through regular surveys developed from these pre-defined questions.

Surveying the CDC Web site, social media, mobile-based or other electronic communication channels hosting CDC content on a regular, ongoing basis ensures that users have an effective, efficient, and satisfying experience on any of our Web sites or communication channels, maximizing the health impact of the information and resulting in optimum benefit for public health. The surveys will ensure that all CDC Web sites and electronic communication channels meet customer and partner priorities, build CDC's brand, and contribute to CDC health impact goals. There are no costs to respondents other than their time.

Estimated Annualized Burden Hours
Survey type | Number of respondents | Frequency of response per respondent | Average burden per response (hrs.) | Total burden hours
In Person Surveys | 8,000 | 1 | 1 | 8,000
Remote Surveys | 67,000 | 1 | 30/60 | 33,500
Total | 75,000 |  |  | 41,500

Dated: December 9, 2009.
Maryam I. Daneshvar,
Acting Reports Clearance Officer, Centers for Disease Control and Prevention.

[FR Doc. E9-29966 Filed 12-16-09; 8:45 am]

BILLING CODE 4163-18-P